DEPARTMENT OF THE TREASURY

31 CFR Parts 30 and 32

Eliminating Unnecessary Regulations

AGENCY: Departmental Offices, Treasury.

ACTION: Notice of proposed rulemaking.

SUMMARY: Pursuant to the policies stated in Executive Order 13777 (the executive order), the Treasury Department conducted a review of existing regulations, with the goal of reducing regulatory burden by revoking or revising existing regulations that meet the criteria set forth in the executive order. This notice of proposed rulemaking proposes to streamline our regulations by removing one regulation that is no longer necessary because it does not have any current or future applicability, and by amending one regulation to remove portions that no longer have any current or future applicability.

DATES: Comment due date: June 8, 2018.

ADDRESSES: Submit comments electronically through the Federal eRulemaking Portal: http://www.regulations.gov, or by mail to: The Treasury Department, Attn: Office of the Assistant General Counsel for Banking and Finance, 1500 Pennsylvania Avenue NW, Washington, DC 20220. Because paper mail in the Washington, DC area may be subject to delay, it is recommended that comments be submitted electronically. Please include your name, affiliation, address, email address, and telephone number in your comment. Comments will be available for public inspection on www.regulations.gov. In general, comments received, including attachments and other supporting materials, are part of the public record and are available to the public. Do not submit any information in your comment or supporting materials that you consider confidential or inappropriate for public disclosure.

FOR FURTHER INFORMATION CONTACT: Laurie Adams, Office of the Assistant General Counsel for Banking and Finance at (202) 927-8727 or laurie.adams@treasury.gov.

SUPPLEMENTARY INFORMATION:

Background

On February 24, 2017, the President issued Executive Order 13777, Enforcing the Regulatory Reform Agenda (82 FR 12285). E.O. 13777 directed each agency to establish a Regulatory Reform Task Force. Each Regulatory Reform Task Force was directed to review existing regulations for regulations that: (i) Eliminate jobs, or inhibit job creation; (ii) are outdated, unnecessary, or ineffective; (iii) impose costs that exceed benefits; (iv) create a serious inconsistency or otherwise interfere with regulatory reform initiatives and policies; (v) are inconsistent with the requirements of the Information Quality Act (section 515 of the Treasury and General Government Appropriations Act of 2001) or OMB Information Quality Guidance issued pursuant to that provision; or (vi) derive from or implement Executive Orders or other Presidential directives that have been subsequently rescinded or substantially modified.

This notice of proposed rulemaking proposes to remove one regulation and portions of a second regulation that have no current or future applicability and, therefore, no longer provide useful guidance. Removing these regulations from the Code of Federal Regulations will streamline Title 31, Money and Finance: Treasury; and increase clarity of the law. These regulations are proposed to be removed from the Code of Federal Regulations solely because the regulations are outdated and unnecessary.

Explanation of Provisions

The regulations, or portions of regulations, proposed to be removed relate to components of Treasury programs that are no longer in existence. They are: TARP Standards for Compensation and Corporate Governance, 31 CFR part 30. The regulations in 31 CFR part 30 set forth standards for the compensation of executives of companies that received capital from Treasury as part of the Troubled Asset Relief Program (TARP) developed under the Emergency Economic Stabilization Act of 2008 (EESA) (12 U.S.C. 5201 et seq.). Portions of this rule relate to “exceptional financial assistance” that was provided to some of the largest financial institutions in the United States under programs specifically created for those institutions. Other portions of the rule established and provided authority to the Office of the Special Master for TARP Executive Compensation (Special Master). The Special Master was given authority to approve certain payments to employees of TARP recipients receiving exceptional financial assistance, review payments to employees made prior to February 17, 2009, and issue advisory opinions on compensation to TARP recipients.

The TARP program has largely wound down and there are no recipients of exceptional financial assistance left in the TARP program. Additionally, the Special Master had the opportunity to review compensation made prior to February 17, 2009. Given the absence of exceptional financial assistance entities and the current status of the TARP program, the Office of the Special Master for TARP Executive Compensation no longer has any employees. Thus, Treasury proposes that Section 30.16 of 31 CFR part 30 be removed.

Payments in Lieu of Low Income Housing Tax Credits (31 CFR Part 32)

The regulation in 31 CFR part 32 sets forth Treasury's policy regarding the time limitation within which State housing credit agencies must disburse funds received under section 1602 of the American Recovery and Reinvestment Tax Act of 2009. This rule allowed States to disburse section 1602 funds to subawardees through December 31, 2011 under certain conditions.

Treasury no longer awards section 1602 funds to State housing credit agencies. Thus, Treasury proposes to remove 31 CFR part 32 because no State housing credit agencies hold section 1602 funds and because the time period for disbursement of section 1602 funds to subawardees has expired.

Procedural Matters

This proposed rule is not a significant regulatory action under Executive Order 12866. Therefore, a regulatory assessment is not required. The undersigned certifies that this proposed rule, if adopted, would not have a significant economic impact on a substantial number of small entities. This certification is based on the fact that this rule would remove outdated and unnecessary regulations and therefore would have no economic impact on any small entities. Accordingly, an analysis under the Regulatory Flexibility Act (5 U.S.C. chapter 6) is not required. Notwithstanding this certification, the Department invites comments on any impact this rule would have on small entities.

List of Subjects

31 CFR Part 30

Securities.

31 CFR Part 32

Housing, taxes.

Proposed Amendments to the Regulations

For the reasons stated in the preamble, 31 CFR parts 30 and 32 are proposed to be amended as follows:

PART 30—[AMENDED]

1. The authority citation for part 30 continues to read as follows:

Authority: 12 U.S.C. 5221; 31 U.S.C. 321.

§ 30.16 [Removed]

2. Section 30.16 is removed.

PART 32—PAYMENTS IN LIEU OF LOW INCOME HOUSING TAX CREDITS [REMOVED]

3. Part 32 is removed.

Ryan Brady,
Executive Secretary.

[FR Doc. 2018-07102 Filed 4-6-18; 8:45 am]

BILLING CODE 4810-25-P